DEPARTMENT OF TRANSPORTATION

Federal Motor Carrier Safety Administration

[Docket No. FMCSA-2017-0319]

Parts and Accessories Necessary for Safe Operation; Agricultural and Food Transporters Conference of American Trucking Associations Application for Exemption

AGENCY: Federal Motor Carrier Safety Administration (FMCSA), DOT.

ACTION: Notice of final disposition; grant of application for exemption; correction.

SUMMARY: FMCSA corrects a notice that appeared in the Federal Register on April 15, 2019. The Federal Motor Carrier Safety Administration (FMCSA) announced its decision to grant a limited 5-year exemption to the Agricultural and Food Transporters Conference (AFTC) of American Trucking Associations (ATA) to allow certain alternate methods for the securement of agricultural commodities transported. The document contains an incorrect uniform resource locator (URL) where it is available on the FMCSA website.

DATES: This exemption is effective April 23, 2019 and ending April 23, 2024.

FOR FURTHER INFORMATION CONTACT: Mr. Luke W. Loy, Vehicle and Roadside Operations Division, Office of Carrier, Driver, and Vehicle Safety, Department of Transportation, FMCSA, 1200 New Jersey Avenue SE, Washington, DC 20590. Telephone: (202) 366-0676. Office hours are from 9 a.m. to 5 p.m., Monday through Friday, except Federal Holidays.

SUPPLEMENTARY INFORMATION: In the notice from docket 2017- 0139, appearing on page 84 FR 15282 in the Federal Register of Monday, April 15, 2015, the following correction is made: on page 15282, column one, under the heading Terms and Conditions for the Exemption, correct “www.fmcsa.dot.gov/insert.specific.link.when. finalized.” to read “www.fmcsa.dot.gov/exemptions”.

Issued on: April 17, 2019.
Larry W. Minor,
Associate Administrator for Policy.

[FR Doc. 2019-08132 Filed 4-22-19; 8:45 am]

BILLING CODE 4910-EX-P